U.S.-CHINA ECONOMIC AND SECURITY REVIEW COMMISSION

Notice of Open Public Hearing

AGENCY: U.S.-China Economic and Security Review Commission.

ACTION: Notice of open public hearing—June 14, 2012, Washington, DC.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China.” Pursuant to this mandate, the Commission will hold a public hearing in Washington, DC on June 14, 2012, “Evolving U.S.-China Trade and Investment Relationship.”

BACKGROUND: This is the sixth public hearing the Commission will hold during its 2012 report cycle to collect input from academic, industry, and government experts on national security implications of the U.S. bilateral trade and economic relationship with China. The June 14 hearing is aimed at sharpening our understanding of contemporary Chinese trade and investment challenges, and will include testimony on the implications of employing value added measurements of trade; the BIT and the U.S. investment regime; as well as case stories of U.S. companies' China trade challenges. The hearing will be co-chaired by Commissioners Hon. William A. Reinsch and Daniel M. Slane. Any interested party may file a written statement by June 14, 2012, by mailing to the contact below. A portion of each panel will include a question and answer period between the Commissioners and the witnesses.

DATES: Location, Date and Time: 562 Dirksen Senate Office Building. Thursday, June 14, 2012, 8:45 a.m.-2:45 p.m. Eastern Time. A detailed agenda for the hearing will be posted to the Commission's Web site at www.uscc.gov as soon as available. Please check our Web site at www.uscc.gov for possible changes to the hearing schedule. Reservations are not required to attend the hearing.

FOR FURTHER INFORMATION CONTACT: Any member of the public seeking further information concerning the hearing should contact Gavin Williams, 444 North Capitol Street NW., Suite 602, Washington DC 20001; phone: 202-624-1492, or via email at gwilliams@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005).

Dated: June 11, 2012.
Kathleen Wilson,
Finance and Operations Director, U.S.-China Economic and Security Review Commission.

[FR Doc. 2012-14559 Filed 6-13-12; 8:45 am]

BILLING CODE 1137-00-P